DEPARTMENT OF THE INTERIOR

Bureau of Land Management

[MT-921-00-1320-EL-P; NDM 90322]

Notice of Invitation—Coal Exploration License Application NDM 90322

AGENCY: Bureau of Land Management, Montana State Office.

ACTION: Notice of Invitation—Coal Exploration License Application NDM 90322.

SUMMARY: Members of the public are hereby invited to participate with The Coteau Properties Company in a program for the exploration of coal deposits owned by the United States of America in the following-described lands located in Mercer County, North Dakota:

T. 145 N., R. 86 W., 5th P.M.

Sec. 4: Lots 3, 4, SW¼NW¼

T. 144 N. R. 88 W., 5th P.M.

Sec. 4: Lots 1, 2, S½NE¼, S½

Sec. 6: Lots 1, 2, SW¼NE¼ less 4.34 acres described by metes and bounds, SE¼SE¼

Sec. 8: N½N½, SE¼NE¼, S½NW¼

T. 145 N., R. 88 W., 5th P.M.

Sec. 4: S½SE¼

Sec. 10: N½

Sec. 28: NE¼NE¼, S½NE¼, SE¼NW¼, S½

1,920.94 acres.

SUPPLEMENTARY INFORMATION: Any party electing to participate in this exploration program shall notify, in writing, both the State Director, Bureau of Land Management, P.O. Box 36800, Billings, Montana 59107-6800; and The Coteau Properties Company, 2000 Schafer Street, Suite D, Bismarck, North Dakota 58502. Such written notice must refer to serial number NDM 90322 and be received no later than 30 calendar days after publication of this Notice in the Federal Register or 10 calendar days after the last publication of this Notice in the Beulah Beacon newspaper, whichever is later. This Notice will be published once a week for two (2) consecutive weeks in the Beulah Beacon, Beulah, North Dakota.

The proposed exploration program is fully described, and will be conducted pursuant to an exploration plan to be approved by the Bureau of Land Management. The exploration plan, as submitted by The Coteau Properties Company, is available for public inspection at the Bureau of Land Management, Montana State Office, 5001 Southgate Drive, Billings, Montana, during regular business hours (9 a.m. to 4 p.m.), Monday through Friday.

FOR FURTHER INFORMATION CONTACT: Either Stephen Van Matre, Mining Engineer, or Bettie Schaff, Land Law Examiner, Branch of Solid Minerals (MT-921), Bureau of Land Management, Montana State Office, P.O. Box 36800, Billings, Montana 59017-6800, telephone (406) 896-5082 or (406) 896-5063, respectively.

Dated: August 29, 2000.
Randy D. Heuscher,
Chief, Branch of Solid Minerals.

[FR Doc. 00-22608 Filed 9-1-00; 8:45 am]

BILLING CODE 4310-$$-P